OFFICE OF SCIENCE AND TECHNOLOGY POLICY

Aeronautics Science and Technology Subcommittee; Committee on Technology; National Science and Technology Council

ACTION: Notice of Meeting—Public input is requested on the National Aeronautics Research, Development, Test and Evaluation (RDT&E) Infrastructure Plan.

SUMMARY: The Aeronautics Science and Technology Subcommittee (ASTS) of the National Science and Technology Council's (NSTC) Committee on Technology will hold a public meeting to review and discuss the National Aeronautics RDT&E Infrastructure Plan. Executive Order (E.O.) 13419—National Aeronautics Research and Development—signed December 20, 2006, calls for the development of this plan. The plan is guided by both the National Aeronautics Research and Development (R&D) Policy and the National Aeronautics Research and Development Plan that were developed by the NSTC in consonance with E.O. 13419.

Dates and Addresses: The meeting will be held in conjunction with the 49th AIAA Aerospace Sciences Meeting at the Orlando World Center Marriott, 8701 World Center Drive, Orlando, Florida 32821 on Friday, January 7, 2011, from 1 p.m. to 2:30 p.m. in Crystal Ballroom A. Information regarding the 49th AIAA Aerospace Sciences Meeting is available at the: http://www.aiaa.org Web site. Note: Persons solely attending this ASTS public meeting do not need to register for the AIAA Conference and Exhibit to attend this public meeting. There will be no admission charge for persons solely attending the public meeting. Seating is limited and will be on a first come, first served basis.

FOR FURTHER INFORMATION CONTACT: Additional information and links to E.O. 13419, the National Aeronautics R&D Policy, the National Aeronautics R&D Plan are available by visiting the Office of Science and Technology Policy's NSTC Web site at: http://www.whitehouse.gov/administration/eop/ostp/nstc/aero or by calling 202-456-6012.

SUPPLEMENTARY INFORMATION: E.O. 13419 and the National Aeronautics R&D Policy call for executive departments and agencies conducting aeronautics R&D to engage industry, academia and other non-Federal stakeholders in support of government planning and performance of aeronautics R&D. At this meeting, ASTS members will review the content of the National Aeronautics RDT&E Infrastructure Plan and receive input to help inform the future development of national aeronautics R&D planning documents.

Ted Wackler,
Deputy Chief of Staff, OSTP.

[FR Doc. 2010-32633 Filed 12-27-10; 8:45 am]

BILLING CODE 3170-W1-P